DEPARTMENT OF COMMERCE

United States Patent and Trademark Office

[Docket No. PTO-P-2017-0039]

Cash Payment Method Will No Longer Be Accepted

AGENCY: United States Patent and Trademark Office, Department of Commerce.

ACTION: Notice.

SUMMARY: The United States Patent and Trademark Office (USPTO) will no longer accept cash, including coins, as payment for products and services for which fees are required.

DATES: Applicable Date: November 1, 2017.

FOR FURTHER INFORMATION CONTACT: Matthew Lee, Director, Receipts Accounting Division, Office of Finance, by email at matthew.lee@uspto.gov.

SUPPLEMENTARY INFORMATION: Effective November 1, 2017, the USPTO will no longer accept cash, including coins, as payment for products and services for which fees are required. This change is being made to streamline the administrative fee collection process and is in accordance with the Department of the Treasury's policy on agencies adopting a no-cash policy. See https://tfm.fiscal.treasury.gov/v1/bull/17-12.pdf. There is no requirement that the USPTO accept cash payments. See, e.g., 37 CFR 1.23.

The USPTO's total net revenue for the last three fiscal years exceeded $3.0 billion each year, and the cash payment method collections averaged less than $14,000 each year. In fiscal year (FY) 2016, the cash payment method comprised less than $11,000, which represented less than 0.0004 percent of total net revenue collections. Furthermore, the USPTO processed over 4.95 million total fee transactions in FY 2016, and only 55 patent fees totaling under $5,000, and eleven trademark fees totally under $4,000, were paid by cash.

The only other fees collected by cash in FY 2016 were about $1,500 in copying fees. The current self-service copiers are to be discontinued as part of Office plans to enter a “No Cost” contract with a vendor who will keep all payments collected in exchange for providing this service. See Setting and Adjusting Patent Fees During Fiscal Year 2017, 81 FR 68150, 68168 (Oct. 3, 2016) (proposed rule).

For the past three years, the overwhelming majority of fees have been paid to the USPTO using a payment method other than cash, and the costs of handling, safeguarding, auditing, transporting, and depositing of cash payments greatly outweigh the benefits of continuing to accept the cash payment method.

While the USPTO will no longer accept the cash payment method on or after November 1, 2017, payments will continue to be accepted in-person and by mail when made by check or money order, credit/debit card, or deposit account. Payment of fees attempted with cash will be refused and returned. More information about all accepted payment methods is available at https://www.uspto.gov/learning-and-resources/fees-and-payment/accepted-payment-methods.

Dated: September 25, 2017.
Joseph D. Matal,
Performing the Functions and Duties of the Under Secretary of Commerce for Intellectual Property and Director of the United States Patent and Trademark Office.

[FR Doc. 2017-21194 Filed 10-2-17; 8:45 am]

BILLING CODE 3510-16-P